DEPARTMENT OF ENERGY

Federal Energy Regulatory Commission

[Docket No. PL09-3-000]

Control and Affiliation for Purposes of the Commission's Market-Based Rate Requirements Under Section 205 of the Federal Power Act and the Requirements of Section 203 of the Federal Power Act; Notice Inviting Post-Workshop Comments

December 9, 2008.

On December 3, 2008, Commission staff convened a workshop with interested persons to discuss issues raised by the filing of the Electric Power Supply Association docketed in Docket No. PL09-3-000. The agenda for the workshop was published in a notice issued in this docket on November 21, 2008.

Topics discussed at the workshop included, but were not limited to, the meaning of the term “control” for purposes of sections 203 and 205 of the Federal Power Act (FPA); what actions by upstream investors should be deemed to constitute the exercise of control for purposes of sections 203 and 205 of the FPA; whether the Commission should rely on representations made by an investor on the Securities and Exchange Commission's Schedule 13G for purposes of determining whether the investor can exercise control over a public utility; and what actions by an upstream investor should be deemed to affect a seller's market-based rate authority.

The Commission invites written comments from workshop participants on any of the matters discussed at the workshop, including recommendations on actions the Commission can take to resolve any of the issues discussed. Comments should be submitted in this docket by January 16, 2009.

Kimberly D. Bose,
Secretary.

[FR Doc. E8-29851 Filed 12-16-08; 8:45 am]

BILLING CODE 6717-01-P